DEPARTMENT OF ENERGY

Federal Energy Regulatory Commission

Combined Notice of Filings No. 2

August 3, 2009.

Take notice that the Commission has received the following Natural Gas Pipeline Rate and Refund Report filings:

Docket Numbers: RP09-371-001.

Applicants: Crossroads Pipeline Company.

Description: Petal Gas Storage, LLC submits Substitute Eleventh Revised Sheet No 129 to its FERC Gas Tariff, Original Volume No 1.

Filed Date: 07/30/2009.

Accession Number: 20090730-0243.

Comment Date: 5 p.m. Eastern Time on Tuesday, August 11, 2009.

Docket Numbers: RP09-716-002.

Applicants: Central Kentucky Transmission Company.

Description: Central Kentucky Transmission Company submits Third Revised Sheet 254 et al. to its FERC Gas Tariff, Original Revised Volume 1, to be effective 8/31/09.

Filed Date: 07/30/2009.

Accession Number: 20090731-0087.

Comment Date: 5 p.m. Eastern Time on Tuesday, August 11, 2009.

Docket Numbers: RP96-320-111.

Applicants: Gulf South Pipeline Company, LP.

Description: Gulf South Pipeline Company, LP submits amendment to a negotiated rates letter agreement executed by Gulf South and Atmos Energy Corporation.

Filed Date: 07/30/2009.

Accession Number: 20090730-0244.

Comment Date: 5 p.m. Eastern Time on Tuesday, August 11, 2009.

Docket Numbers: RP06-200-054.

Applicants: Rockies Express Pipeline LLC.

Description: Rockies Express Pipeline, LLC submits Seventh Revised Sheet 8A et al. to FERC Gas Tariff, Second Revised Volume 1 to be effective 8/1/09.

Filed Date: 07/31/2009.

Accession Number: 20090731-0104.

Comment Date: 5 p.m. Eastern Time on Wednesday, August 12, 2009.

Docket Numbers: RP08-436-004.

Applicants: Stingray Pipeline Company, L.L.C.

Description: Stingray Pipeline Company, LLC submits Sixth Revised Sheet 103 et al. part of its FERC Gas Tariff, Third Revised Volume 1, to be effective 8/1/09.

Filed Date: 07/31/2009.

Accession Number: 20090731-0143.

Comment Date: 5 p.m. Eastern Time on Wednesday, August 12, 2009.

Docket Numbers: RP09-786-001.

Applicants: Northern Natural Gas Company.

Description: Northern Natural Gas Company submits Substitute 1 Revised 30 Revised Sheet No. 54 to FERC Gas Tariff, Fifth Revised Volume No. 1.

Filed Date: 07/31/2009.

Accession Number: 20090731-0105.

Comment Date: 5 p.m. Eastern Time on Wednesday, August 12, 2009.

Docket Numbers: RP99-176-203.

Applicants: Natural Gas Pipeline Company of America.

Description: Natural Gas Pipeline Company of America, LLC submits two amendments to existing negotiated rate arrangements under Rate Schedule FTS Agreements with WEPCO.

Filed Date: 07/31/2009.

Accession Number: 20090731-0116.

Comment Date: 5 p.m. Eastern Time on Wednesday, August 12, 2009.

Docket Numbers: RP99-176-204.

Applicants: Natural Gas Pipeline Company of America.

Description: Natural Gas Pipeline Company of America LLC submits First Revised Sheet No 33G 06 to FERC Gas Tariff, Seventh Revised Volume No. 1.

Filed Date: 07/31/2009.

Accession Number: 20090731-0117.

Comment Date: 5 p.m. Eastern Time on Wednesday, August 12, 2009.

Docket Numbers: RP99-518-111.

Applicants: Gas Transmission Northwest Corporation.

Description: Gas Transmission Northwest Corporation submits certain revised tariff sheets to part of its FERC Gas Tariff, Third Volume 1-A, to be effective 8/1/09.

Filed Date: 07/31/2009.

Accession Number: 20090731-0102.

Comment Date: 5 p.m. Eastern Time on Wednesday, August 12, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-18919 Filed 8-6-09; 8:45 am]

BILLING CODE 6717-01-P